DEPARTMENT OF THE TREASURY

United States Mint

Pricing for the 2018 World War I Centennial Silver Dollar

AGENCY: United States Mint, Department of the Treasury.

ACTION: Notice.

The United States Mint is announcing pricing for the 2018 World War I Centennial Silver Dollar products as follows:

—
Coin | Introductory price | Regular price
World War I Centennial Proof Silver Dollar | $51.95 | $56.95
World War I Centennial Uncirculated Silver Dollar | 48.95 | 53.95
World War I Centennial Silver Dollar and Air Service Medal Set | N/A | 99.95
World War I Centennial Silver Dollar and Army Medal Set | N/A | 99.95
World War I Centennial Silver Dollar and Coast Guard Medal Set | N/A | 99.95
World War I Centennial Silver Dollar and Marine Corps Medal Set | N/A | 99.95
World War I Centennial Silver Dollar and Navy Medal Set | N/A | 99.95

FOR FURTHER INFORMATION CONTACT: Ann Bailey, Program Manager for Numismatic and Bullion; United States Mint; 801 9th Street NW., Washington, DC 20220; or call 202-354-7500.

Authority: Public Law 113-212.

Dated: December 6, 2017.
Jean Gentry,
Chief Counsel, United States Mint.

[FR Doc. 2017-26610 Filed 12-8-17; 8:45 am]

BILLING CODE P